DEPARTMENT OF THE TREASURY

Bureau of Alcohol, Tobacco and Firearms

27 CFR Part 30

[T.D. ATF-438]

RIN 1512-AC16

Delegation of Authority in 27 CFR Part 30

AGENCY: Bureau of Alcohol, Tobacco and Firearms (ATF), Treasury.

ACTION: Treasury decision, final rule.

SUMMARY: Authority delegation. This final rule places all ATF authorities contained in part 30, title 27 Code of Federal Regulations (CFR), with the “appropriate ATF officer.” Also, this final rule removes the definitions of, and references to, specific officers subordinate to the Director. Concurrently with this Treasury Decision, ATF Order 1130.17 is being published. Through this order, the Director has delegated the authorities in 27 CFR part 30 to the appropriate ATF officers.

EFFECTIVE DATE: January 19, 2001.

FOR FURTHER INFORMATION CONTACT: Lisa Gesser, Regulations Division, Bureau of Alcohol, Tobacco and Firearms, 650 Massachusetts Avenue NW., Washington, DC 20226, (202-927-9347) or e-mail at alctob@atfhq.atf.treas.gov.

SUPPLEMENTARY INFORMATION:

Background

Pursuant to Treasury Order 120-01 (formerly 221), dated June 6, 1972, the Secretary of the Treasury delegated to the Director of the Bureau of Alcohol, Tobacco and Firearms (ATF), the authority to enforce, among other laws, the provisions of chapter 51 of the Internal Revenue Code of 1986 (IRC). The Director has subsequently redelegated certain of these authorities to appropriate subordinate officers by way of various means, including by regulation, ATF delegation orders, regional directives, or similar delegation documents. As a result, to ascertain what particular officer is authorized to perform a particular function under chapter 51, each of these various delegation instruments must be consulted. Similarly, each time a delegation of authority is revoked or redelegated, each of the delegation documents must be reviewed and amended as necessary.

ATF has determined that this multiplicity of delegation instruments complicates and hinders the task of determining which ATF officer is authorized to perform a particular function. ATF also believes these multiple delegation instruments exacerbate the administrative burden associated with maintaining up-to-date delegations, resulting in an undue delay in reflecting current authorities.

Accordingly, this final rule rescinds all authorities of the Director in part 30 that were previously delegated and places those authorities with the “appropriate ATF officer.” Most of the authorities of the Director that were not previously delegated are also placed with the “appropriate ATF officer.” Along with this final rule, ATF is publishing ATF Order 1130.17, Delegation Order—Delegation of the Director's Authorities in part 30, Gauging Manual, which delegates certain of these authorities to the appropriate organizational level.

The effect of these changes is to consolidate all delegations of authority in part 30 into one delegation instrument. This action both simplifies the process for determining what ATF officer is authorized to perform a particular function and facilitates the updating of delegations in the future. As a result, delegations of authority will be reflected in a more timely and user-friendly manner.

Paperwork Reduction Act

The provisions of the Paperwork Reduction Act of 1995, Public Law 104-13, 44 U.S.C. Chapter 35, and its implementing regulations, 5 CFR part 1320, do not apply to this final rule because there are no new or revised recordkeeping or reporting requirements.

Regulatory Flexibility Act

Because no notice of proposed rulemaking is required for this rule, the provisions of the Regulatory Flexibility Act (5 U.S.C. 601 et seq.) do not apply. A copy of this final rule was submitted to the Chief Counsel for Advocacy of the Small Business Administration in accordance with 26 U.S.C. 7805(f). No comments were received.

Executive Order 12866

It has been determined that this rule is not a significant regulatory action because it will not: (1) have an annual effect on the economy of $100 million or more or adversely affect in a material way the economy, a sector of the economy, productivity, competition, jobs, the environment, public health or safety, or State, local or tribal governments or communities; (2) create a serious inconsistency or otherwise interfere with an action taken or planned by another agency; (3) Materially alter the budgetary impact of entitlements, grants, user fees, or loan programs or the rights and obligations of recipients thereof; or (4) raise novel legal or policy issues arising out of legal mandates, the President's priorities, or the principles set forth in Executive Order 12866.

Administrative Procedure Act

Because this final rule merely makes technical amendments and conforming changes to improve the clarity of the regulations, it is unnecessary to issue this final rule with notice and public procedure under 5 U.S.C. 553(b). Similarly it is unnecessary to subject this final rule to the effective date limitation of 5 U.S.C. 553(d).

Drafting Information

The principal author of this document is Lisa Gesser, Regulations Division, Bureau of Alcohol, Tobacco and Firearms.

List of Subjects in 27 CFR Part 30

Alcohol and alcoholic beverages, Measurement standards, Scientific equipment.

Authority and Issuance

Title 27, Code of Federal Regulations is amended as follows:

PART 30—GAUGING MANUAL

Paragraph 1. The authority citation for part 30 continues to read as follows:

Authority: 26 U.S.C. 7805.

Par. 2. Section 30.11 is amended by removing the definitions of “ATF officer” and “Regional director” and by adding a new definition of “Appropriate ATF officer” to read as follows:

§ 30.11 Meaning of terms.

* * * * *

Appropriate ATF Officer. An officer or employee of the Bureau of Alcohol, Tobacco and Firearms (ATF) authorized to perform any functions relating to the administration or enforcement of this part by ATF Order 1130.17, Delegation Order—Delegation of the Director's Authorities in 27 CFR Part 30—Gauging Manual.

* * * * *

§§ 30.11, 30.31, 30.36, 30.43, and 30.51 [Amended]

Par. 3. Part 30 is further amended by removing the words “Director” each place it appears and adding, in substitution, the words “appropriate ATF officer” in the following places:

(a) The definition of “Bulk conveyance” in § 30.11;

(b) Section 30.31(b);

(c) Section 30.36;

(d) The last sentence of § 30.43; and

(e) The first sentence of § 30.51.

Par. 4. Section 30.21(c) is revised to read as follows:

§ 30.21 Requirements.

* * * * *

(c) Appropriate ATF Officers. Appropriate ATF officers shall use only hydrometers and thermometers furnished by the Government. However, where this part requires the use of a specific gravity hydrometer, ATF officers shall use precision grade specific gravity hydrometers conforming to the provisions of § 30.24, furnished by the proprietor. However, the appropriate ATF officer may authorize the use of other instruments approved by the appropriate ATF officer as being equally satisfactory for determination of specific gravity and for gauging. From time to time appropriate ATF officers shall verify the accuracy of hydrometers and thermometers used by proprietors.

* * * * *

Par. 5. Section 30.24(a) is amended by adding the word “appropriate” before the words “ATF officers.”

Par. 6. Section 30.24(b) is amended by adding the word “appropriate” before the words “ATF officer.”

Bradley A. Buckles,
Director.
Approved: August 11, 2001.
John P. Simpson,
Deputy Assistant Secretary (Regulatory, Tariff and Trade Enforcement).

[FR Doc. 01-1165 Filed 1-18-01; 8:45 am]

BILLING CODE 4810-31-P